DEPARTMENT OF COMMERCE

Foreign-Trade Zones Board

[B-053-2017]

Foreign-Trade Zone (FTZ) 26—Atlanta, Georgia; Notification of Proposed Production Activity; Nisshinbo Automotive Manufacturing, Inc. (Automotive Brake Linings, Pads, and Disc Pads Assembly and Production); Covington, Georgia

The Georgia Foreign Trade Zone, Inc., grantee of FTZ 26, submitted a notification of proposed production activity to the FTZ Board on behalf of Nisshinbo Automotive Manufacturing, Inc. (Nisshinbo), located in Covington, Georgia. The notification conforming to the requirements of the regulations of the FTZ Board (15 CFR 400.22) was received on August 10, 2017.

The Nisshinbo facility is located within Site 33 of FTZ 26. The facility will be used to assemble and produce automotive brake pads. Pursuant to 15 CFR 400.14(b), FTZ activity would be limited to the specific foreign-status materials and components and specific finished products described in the submitted notification (as described below) and subsequently authorized by the FTZ Board.

Production under FTZ procedures could exempt Nisshinbo from customs duty payments on the foreign-status components used in export production. On its domestic sales, for the foreign-status materials/components noted below, Nisshinbo would be able to choose the duty rates during customs entry procedures that apply to: Brake linings and pads, and brake disc pads (duty rate ranging from free to 2.5%). Nisshinbo would be able to avoid duty on foreign-status components which become scrap/waste. Customs duties also could possibly be deferred or reduced on foreign-status production equipment.

The components and materials sourced from abroad include: Natural graphite powder; natural graphite; kaolinite clay; magnesium oxide; slaked lime; mica powder; vermiculite; synthetic zeolite; antimony trisulfide; carbon black; carbon fiber; crystalline silica, quartz; spherical silica powder; zinc powder; white fused alumina; aluminum oxide; black iron oxide; zirconium oxide; antimony trioxide; calcium fluoride; zinc sulfide; barium sulfate; calcium carbonate; rubber with calcium carbonate; sepiolite; calcium silicate; potassium titanate; salts of inorganic acids; calcium hydride; dicumyl peroxide with calcium carbonate; stearic acid from saturated acyclic monocarboxylic acids (zinc stearic acid); paints and varnishes (including enamels and lacquers) based on synthetic polymers in a non-aqueous medium hematite; artificial graphite plates, rods, powder and other forms for manufacturing pitch cokes; artificial graphite powder; silicone rubber coated cashew particle; phenolic resin; synthetic-amorphous silica; black silicon carbide; silicone rubber; cashew dust from cashew nut shell; friction dust from manufacturing grinding process; cellulose fiber; acrylonitrile/butadiene; tire rubber crumb—ground tires through a special milling procedure; rubber powder; styrene-butadiene rubber; rock wool fiber; brake linings (not mounted); ceramic fiber; microblast of other mineral substances; glass chopped strand; chopped stainless steel wire fiber; copper powder; copper fiber; bronze fiber; aluminum grain; alumina powder; atomized tin powder; tin sulfide powder; zirconium silicate; zircon flour; and, backing plates/disc pads (duty rate ranges from free to 6.5%).

Public comment is invited from interested parties. Submissions shall be addressed to the Board's Executive Secretary at the address below. The closing period for their receipt is October 10, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Juanita Chen at juanita.chen@trade.gov or (202) 482-1378.

Dated: August 24, 2017.
Andrew McGilvray,
Executive Secretary.

[FR Doc. 2017-18438 Filed 8-29-17; 8:45 am]

BILLING CODE 3510-DS-P